FEDERAL MARITIME COMMISSION

Notice of Agreement Filed

The Commission hereby gives notice of the filing of the following agreements under the Shipping Act of 1984. Interested parties may submit comments on the agreement to the Secretary, Federal Maritime Commission, Washington, DC 20573, within twelve days of the date this notice appears in the Federal Register. Copies of the agreement are available through the Commission's Web site (www.fmc.gov) or by contacting the Office of Agreements at (202)-523-5793 or tradeanalysis@fmc.gov.

Agreement No.: 011290-041.

Title: International Vessel Operators Dangerous Goods Association Agreement.

Parties: Aliança Navegacao e Logistica Ltda.; APL Co. PTE Ltd.; Atlantic Container Line AB; Bermuda Container Line; China Shipping Container Lines Co., Ltd.; COSCO Container Lines Company Limited; Crowley Maritime Corporation; Evergreen Line Joint Service Agreement; (Taiwan) Ltd.; Hamburg-Südamerikanische Dampfschifffahrts-Gesellschaft KG; Hanjin Shipping Co., Ltd.; Hapag-Lloyd AG; Horizon Lines, LLC; Hyundai Merchant Marine Co., Ltd.; Independent Container Line Ltd.; Kawasaki Kisen Kaisha Ltd.; Maersk Line A/S; Marine Transport Management, Inc.; Maruba SCA; Matson Navigation Company; Mitsui O.S.K. Lines, Ltd.; National Shipping Co. of Saudi Arabia; Nippon Yusen Kaisha Line; Orient Overseas Container Line Limited; Seaboard Marine Ltd.; Senator Lines GmbH; Tropical Shipping & Construction Co., Ltd.; Yang Ming Marine Transport Corp.; and Zim Integrated Shipping Services, Ltd.

Filing Party: Wayne R. Rohde, Esq.; Cozen O'Connor; 1200 Nineteenth Street NW.; Washington, DC 20036.

Synopsis: The Amendment would delete Horizon Lines, LLC; Maruba SCA; Senator Lines GmbH; Zim Integrated Shipping Services, Ltd.; China Shipping Container Lines Co., Ltd.; and Hanjin Shipping Co., Ltd. as parties to the Agreement. The Amendment would add Wallenius Wilhelmsen Logistics and Wan Hai Lines Ltd. as parties to the Agreement, and change the name of the carrier formerly known as The National Shipping Company of Saudi Arabia to Bahri General Cargo.

By Order of the Federal Maritime Commission.
Dated: April 21, 2017.
Rachel E. Dickon,
Assistant Secretary.

[FR Doc. 2017-08443 Filed 4-25-17; 8:45 am]

BILLING CODE 6731-AA-P